DEPARTMENT OF COMMERCE

National Oceanic and Atmospheric Administration

[RTID 0648-XB470]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ). The meeting is a hybrid meeting open to the public offering both in-person and virtual options for participation.

DATES: The meeting will convene Monday, October 25 through Wednesday, October 27, 2021, from 8:30 a.m. to 5:30 p.m., CDT and on Thursday, October 28, 2021, from 8:30 a.m. to 4:30 p.m., CDT.

ADDRESSES: The meeting will take place at Perdido Beach Resort, located at 27200 Perdido Beach Resort Boulevard, Orange Beach, AL 36561. Please note, in-person meeting attendees will be expected to follow any current COVID-19 safety protocols as determined by the Council, hotel and the City of Orange Beach. Such precautions may include masks, room capacity restrictions, and/or social distancing. If you prefer to “listen in”, you may access the log-on information by visiting our website at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, October 25, 2021; 8:30 a.m.-5:30 p.m., CDT

The meeting will begin open to the public in a Full Council Session to review and adopt Council Committee Assignments for October 2021 through August 2022; and, receive an update on Hurricane Ida's Impacts to Fishing Communities. Committee sessions will begin approximately 8:45 a.m. with the Shrimp Committee discussing the Shrimp Focus Group, review Draft Framework Action: Modification of the Vessel Position Data Collection Program for the Gulf of Mexico Shrimp Fishery.

The Gulf SEDAR Committee will receive a meeting summary from the October 2021 SEDAR Steering Committee and review the Gulf SEDAR Stock Assessment Schedule.

The Sustainable Fisheries Committee will review the Draft Allocation Review Guidelines, SSC Recommendations on Using Field Experiments to Assess Alternative Mechanisms for Distributing Fish to the Recreational Sector, and a Report to Congress on Shark and Dolphin Depredation.

The Mackerel Committee will convene after lunch. They will review Coastal Migratory Pelagics (CMP) Landings and receive a presentation on the History of CMP Permits and Sale of Recreational Cobia. They will review and discuss Final Action Item: Amendment 32: Modifications to the Gulf of Mexico Migratory Group Cobia Catch Limits, Possession Limits, Size Limits, and Framework Procedure, discuss Draft Amendment 33:

Modifications to the Gulf of Mexico Migratory Group King Mackerel Catch Limits and Sector Allocations and Public Hearing Draft Amendment 34: Atlantic Migratory Group King Mackerel Catch Levels and Atlantic King and Spanish Mackerel Management Measures.

Immediately following Mackerel Committee, there will be a virtual and in-person Public Hearing on Final Action: Amendment 32: Modifications to the Gulf of Mexico Migratory Group Cobia Catch Limits, Possession Limits, Size Limits, and Framework Procedure.

Tuesday, October 26, 2021; 8:30 a.m.-5:30 p.m., CDT

The Reef Fish Committee will convene to review Reef Fish Landings and Individual Fishing Quota (IFQ) Landings and Final Action Item: Draft Framework Action: Modification of Gulf of Mexico Red Grouper Catch Limits. The Committee will receive presentations on SEDAR 70: Greater Amberjack Stock Assessment Report and on SEDAR 72: Gag Grouper Stock Assessment Report, and discuss SSC Recommendations for both. The Committee will hold a discussion on Draft Snapper Grouper Amendment 44 and Reef Fish Amendment 55: Modifications to Southeastern U.S. Yellowtail Snapper Jurisdictional Allocations, Catch Limits, and South Atlantic Sector Annual Catch Limits and on Individual Fishing Quota Programs: Presentation from the National Academy of Sciences on The Use of Limited Access Privilege Programs in Mixed-Use Fisheries, and hold a discussion on Focus Group Formation. The Committee will review Draft Framework Action: Modification of Vermillion Snapper Catch Limits, and discuss SSC Recommendations on Final Great Red Snapper Count (GRSC) report and Louisiana Department of Wildlife and Fisheries (LDWF) Red Snapper Abundance Studies.

Immediately following the Reef Fish Committee, a virtual and in-person Question and Answer Session focused on For-Hire Reporting Requirements hosted by National Marine Fisheries Services (NMFS), Gulf Council Leadership and NMFS-Approved Vessel Monitoring System (VMS) Vendors.

Wednesday, October 27, 2021; 8:30 a.m.-5:30 p.m., CDT

The Data Collection Committee will receive a presentation from the National Academy of Sciences on Data and Management Strategies for Recreational Fisheries with Annual Catch Limits, update on Southeast For-hire Integrated Electronic Reporting (SEFHIER) Program, and review Draft Framework Action: Modification to Location Reporting Requirements for For-Hire and Commercial Vessels and Data Collection Advisory Panel (AP) Recommendations. The Committee will receive a presentation on Update to Modifications to the Commercial Electronic Reporting Program and discuss remaining Data Collection AP recommendations.

Following lunch, at approximately 1:30 p.m., the Council will reconvene with a Call to Order, Announcements and Introductions, Adoption of Agenda and Approval of Minutes. The Council will receive presentation on Network Analysis of Quota Trading in the Gulf of Mexico Individual Fishing Quota Fisheries.

The Council will hold public testimony from 2:15 p.m. to 5:30 p.m., CDT on Final Action Items: Amendment 32: Modifications to the Gulf of Mexico Migratory Group Cobia Catch Limits, Possession Limits, Size Limits, and Framework Procedure and Draft Framework Action: Modification of Gulf of Mexico Red Grouper Catch Limits; and open testimony on other fishery issues or concerns. Public comment may begin earlier than 2:15 p.m. CDT, but will not conclude before that time. Persons wishing to give public testimony in-person must register at the registration kiosk in the meeting room. Persons wishing to give public testimony virtually must sign up on the Council website on the day of public testimony. Registration for virtual testimony closes one hour (1:15 p.m. CDT) before public testimony begins.

Thursday, October 28, 2021; 8:30 a.m.-4:30 p.m., CDT

The Council will receive Committee reports from Shrimp, Gulf SEDAR, Mackerel, Data Collection, Sustainable Fisheries and Reef Fish Management Committees. The Council will receive updates from the following supporting agencies: South Atlantic Fishery Management Council; Alabama Law Enforcement Efforts; NOAA Office of Law Enforcement (OLE); Gulf States Marine Fisheries Commission; U.S. Coast Guard; U.S. Fish and Wildlife Service; and Department of State.

The Council will discuss any Other Business items.

—Meeting Adjourns

The meeting will be a hybrid meeting; both in-person and virtual. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: September 30, 2021.
Tracey L. Thompson,
Acting Deputy Director, Office of Sustainable Fisheries, National Marine Fisheries Service.

[FR Doc. 2021-21748 Filed 10-5-21; 8:45 am]

BILLING CODE 3510-22-P